DEPARTMENT OF COMMERCE

National Oceanic and Atmospheric Administration

RIN 0648-XX44

Gulf of Mexico Fishery Management Council; Public Meeting

AGENCY: National Marine Fisheries Service (NMFS), National Oceanic and Atmospheric Administration (NOAA), Commerce.

ACTION: Council to convene public meeting.

SUMMARY: The Gulf of Mexico Fishery Management Council will convene a meeting of the Standing and Special Reef Fish Scientific and Statistical Committees.

DATES: The meeting will convene at 9 a.m. on Tuesday, July 27, 2010 and conclude by 3 p.m. on Thursday, July 29, 2010.

ADDRESSES: The meeting will be held at the Gulf of Mexico Fishery Management Council, 2203 North Lois Avenue, Suite 1100, Tampa, FL 33607; telephone: (813) 348-1630.

Council address: Gulf of Mexico Fishery Management Council, 2203 N. Lois Avenue, Suite 1100, Tampa, FL 33607.

FOR FURTHER INFORMATION CONTACT: Steven Atran, Population Dynamics Statistician; Gulf of Mexico Fishery Management Council; telephone: (813) 348-1630.

SUPPLEMENTARY INFORMATION: The Committee will meet to review Council actions relative to the Generic Annual Catch Limit/Accountability Measures Amendment, and review reports from a Red Drum Acceptable Biological Catch Working Group, and a Species Groupings/Acceptable Biological Catch Working Group. Based on input from the working groups, the Committee will then, to the extent practicable, establish overfishing limits and recommend acceptable biological catch levels associated with a range of scientific risk levels for stocks and stock groups included in the amendment. The Committee may also provide guidance to the Council on appropriate levels of risk for specific stocks. Finally, the Committee will elect a new vice-chairman.

Copies of the agenda and other related materials can be obtained by calling (813) 348-1630 or can be downloaded from the Council's ftp site, ftp.gulfcouncil.org.

Although other non-emergency issues not on the agenda may come before the Scientific and Statistical Committee for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Tina O'Hern at the Council (see ADDRESSES) at least 5 working days prior to the meeting.

Dated: July 6, 2010.
Tracey L. Thompson,
Acting Director, Office of Sustainable Fisheries, National Marine Fisheries Service.

[FR Doc. 2010-16798 Filed 7-8-10; 8:45 am]

BILLING CODE 3510-22-S